DEPARTMENT OF JUSTICE

Antitrust Division

Notice Pursuant to the National Cooperative Research and Production Act of 1993—U.S. Product Data Association

Notice is hereby given that, on September 20, 2004, pursuant to Section 6(a) of the National Cooperative Research and Production Act of 1993, 15 U.S.C. 4301 et seq. (“the Act”), U.S. Product Data Association (“US PRO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: U.S. Product Data Association, North Charleston, SC. The nature and scope of US PRO's standards development activities are: To provide the management functions for the IGES/PDES Organization (IPO) and its related activities, including the U.S. Technical Advisory Group (TAG) to ISO TC184/SC4.

Dorothy B. Fountain,
Deputy Director of Operations, Antitrust Division.

[FR Doc. 04-26216 Filed 11-26-04; 8:45 am]

BILLING CODE 4410-11-M